DEPARTMENT OF TRANSPORTATION

Federal Aviation Administration

14 CFR Part 39

[Docket No. FAA-2024-1007; Project Identifier MCAI-2023-01249-T; Amendment 39-22823; AD 2024-16-17]

RIN 2120-AA64

Airworthiness Directives; Airbus SAS Airplanes

AGENCY: Federal Aviation Administration (FAA), DOT.

ACTION: Final rule.

SUMMARY: The FAA is superseding Airworthiness Directive (AD) 2022-13-11, which applied to all Airbus SAS Model A350-941 and -1041 airplanes. AD 2022-13-11 required revising the existing airplane flight manual (AFM) for airplanes equipped with affected flight control units (FCUs) and replacing any affected FCU with a serviceable FCU. This AD was prompted by reports of inadvertent auto flight system (AFS) altitude changes on the FCU; an investigation revealed that, depending on the ring selection, failure of the ALT knob on the FCU could change the target altitude. This AD continues to require certain actions in AD 2022-13-11, including replacing any affected FCU with a serviceable FCU, expands the requirement to revise the existing AFM for all airplanes, and prohibits the installation of affected parts; as specified in a European Union Aviation Safety Agency (EASA) AD, which is incorporated by reference. The FAA is issuing this AD to address the unsafe condition on these products.

DATES: This AD is effective October 30, 2024.

The Director of the Federal Register approved the incorporation by reference of a certain publication listed in this AD as of October 30, 2024.

ADDRESSES:

AD Docket: You may examine the AD docket at regulations.gov under Docket No. FAA-2024-1007; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-1007.

FOR FURTHER INFORMATION CONTACT: Dat Le, Aviation Safety Engineer, FAA, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 to supersede AD 2022-13-11, Amendment 39-22097 (87 FR 39741, July 5, 2022) (AD 2022-13-11). AD 2022-13-11 applied to all Airbus SAS Model A350-941 and -1041 airplanes. AD 2022-13-11 was prompted by a report of inadvertent AFS altitude changes on the FCU; an investigation revealed that, depending on the ring selection, failure of the ALT knob on the FCU could change the target altitude. AD 2022-13-11 required revising the existing AFM to include a procedure on the use of the AFS control panel ALT knob. AD 2022-13-11 also required replacing any affected FCU with a serviceable FCU, which would terminate the AFM revision following that replacement. The FAA issued AD 2022-13-11 to address erroneous target altitude during descent, climb, or go-around, which could result in an unexpected vertical trajectory deviation and loss of correct situational awareness that could potentially result in uncontrolled impact with the ground.

The NPRM published in the Federal Register on April 23, 2024 (89 FR 30281). The NPRM was prompted by AD 2023-0215, dated December 11, 2023; corrected December 13, 2023; issued by EASA, which is the Technical Agent for the Member States of the European Union (EASA AD 2023-0215) (also referred to as the MCAI). The MCAI states that since EASA AD 2021-0260, dated November 18, 2021 (EASA AD 2021-0260), was issued, several operators reported additional incidents of inadvertent AFS altitude changes on airplanes equipped with serviceable FCUs. Airbus is investigating the cause of these reported events and, as a precautionary measure, expanded the applicability of the AFM Temporary Revision (TR) 121, Issue 1, to all airplanes, including those equipped with serviceable FCUs. For the reasons described above, EASA AD 2023-0215 partially retains the requirements of EASA AD 2021-0260, which is superseded, and requires amendment of the applicable AFM by incorporating AFM TR 121, Issue 1, for airplanes equipped with serviceable FCUs. EASA AD 2023-0215 is still considered to be an interim action, and further EASA AD action may follow.

In the NPRM, the FAA proposed to continue to require certain actions in AD 2022-13-11, including replacing any affected FCU with a serviceable FCU, as specified in EASA AD 2023-0215. The NPRM also proposed to require expanding the applicability of the requirement to revise the existing AFM to all Model A350-941 and -1041 airplanes, including those equipped with serviceable FCUs, as specified in EASA AD 2023-0215. The NPRM also proposed to prohibit the installation of affected parts. The FAA is issuing this AD to address erroneous target altitude during descent, climb, or go-around, which could result in an unexpected vertical trajectory deviation and loss of correct situational awareness that could potentially result in uncontrolled impact with the ground.

You may examine the MCAI in the AD docket at regulations.gov under Docket No. FAA-2024-1007.

Discussion of Final Airworthiness Directive

Comments

The FAA received a comment from Air Line Pilots Association, International (ALPA), who supported the NPRM without change.

The FAA received an additional comment from Delta Air Lines (Delta). The following presents the comment received on the NPRM and the FAA's response to the comment.

Request To Extend Compliance Time for Replacement of Affected FCUs

Delta requested that a new exception be added to paragraph (h) of the proposed AD to extend the compliance time for the replacement of affected FCUs from 25 months to 32 months, due to lack of parts availability. Delta pointed out that it is currently the only U.S. operator affected by AD 2022-13-11 and that Thales, the FCU manufacturer, focused on providing serviceable FCUs to European operators first, since EASA AD 2021-0260 was required to be accomplished sooner than AD 2022-13-11. Delta asserted that this resulted in Delta losing approximately 17 months of the time needed to accomplish the required replacement and therefore, requested the additional 7-month extension. Additionally, Delta pointed out that the replacement is secondary to the requirement to amend the AFM, which affects both serviceable and affected FCUs. Because the compliance time for the AFM amendment is retained as proposed, Delta maintained that an adequate level of safety is provided during the requested extension of the compliance time for replacing the affected FCUs.

The FAA does not agree to extend the compliance time for replacing the affected FCUs. Delta did not provide enough justification to support an extension of the compliance time. In developing an appropriate compliance time for this action, the FAA considered the recommendations of the manufacturer, the urgency associated with the subject unsafe condition, the availability of required parts, and the practical aspect of accomplishing the required replacement within a period of time that corresponds to the normal scheduled maintenance for most affected operators. According to EASA, as the State of Design, parts availability was taken into consideration during development of the compliance time, which was determined to be sufficient to allow for the replacement of the affected parts to address the entire global A350 fleet. In consideration of these items, the FAA has determined that the proposed compliance time will ensure an acceptable level of safety. However, under the provisions of paragraph (i)(1) of this AD, the FAA will consider requests for approval of an extension of the compliance time if sufficient data are submitted to substantiate that the new compliance time would provide an acceptable level of safety. Therefore, no change is necessary to this AD.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, this AD is adopted as proposed in the NPRM. None of the changes will increase the economic burden on any operator.

Material Incorporated by Reference Under 1 CFR Part 51

EASA AD 2023-0215 specifies procedures for revising the existing AFM to include a procedure on the use of the AFS control panel ALT knob for all Airbus SAS Model A350-941 and -1041 airplanes, including the airplanes equipped with serviceable FCUs part number (P/N) C31006AD01; and replacing any affected FCU having P/N C31006AC01 or C31006AB01 with a serviceable FCU having P/N C31006AD01. EASA AD 2023-0215 also prohibits the installation of affected parts.

This material is reasonably available because the interested parties have access to it through their normal course of business or by the means identified in the ADDRESSES section.

Interim Action

The FAA considers that this AD is an interim action. The FAA anticipates that further AD action will follow.

Costs of Compliance

The FAA estimates that this AD affects 27 airplanes of U.S. registry. The FAA estimates the following costs to comply with this AD:

Estimated Costs for Required Actions
Labor cost | Parts cost | Cost per product | Cost on U.S. operators
Up to 6 work-hours × $85 per hour = $510 | $27,000 | Up to $27,510 | Up to $742,770.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-13-11, Amendment 39-22097 (87 FR 39741, July 5, 2022); and

b. Adding the following new AD:

2024-16-17 Airbus SAS: Amendment 39-22823; Docket No. FAA-2024-1007; Project Identifier MCAI-2023-01249-T.

(a) Effective Date

This airworthiness directive (AD) is effective October 30, 2024.

(b) Affected ADs

This AD replaces AD 2022-13-11, Amendment 39-22097 (87 FR 39741, July 5, 2022) (AD 2022-13-11).

(c) Applicability

This AD applies to all Airbus SAS Model A350-941 and -1041 airplanes, certificated in any category.

(d) Subject

Air Transport Association (ATA) of America Code 22, Auto Flight.

(e) Unsafe Condition

This AD was prompted by reports of inadvertent auto flight system (AFS) altitude changes on the flight control unit (FCU); an investigation revealed that, depending on the ring selection, failure of the ALT knob on the FCU could change the target altitude. The FAA is issuing this AD to address erroneous target altitude during descent, climb, or go-around, which could result in an unexpected vertical trajectory deviation and loss of correct situational awareness that could potentially result in uncontrolled impact with the ground.

(f) Compliance

Comply with this AD within the compliance times specified, unless already done.

(g) Requirements

Except as specified in paragraph (h) of this AD: Comply with all required actions and compliance times specified in, and in accordance with, European Union Aviation Safety Agency (EASA) AD 2023-0215, dated December 11, 2023; corrected December 13, 2023 (EASA AD 2023-0215).

(h) Exceptions to EASA AD 2023-0215

(1) Where EASA AD 2023-0215 refers to “02 December 2021 [the effective date of EASA AD 2021-0260, dated November 18, 2021],” this AD requires using August 9, 2022 (the effective date of AD 2022-13-11).

(2) Where EASA AD 2023-0215 refers to its effective date, this AD requires using the effective date of this AD.

(3) Where paragraphs (1) and (2) of EASA AD 2023-0215 specify to “inform all flight crews, and thereafter, operate the aeroplane accordingly,” this AD does not require those actions as those actions are already required by existing FAA operating regulations.

(4) The “Remarks” section of EASA AD 2023-0215 does not apply to this AD.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (j) of this AD. Information may be emailed to: 9-AVS-AIR-730-AMOC@faa.gov.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(j) Additional Information

For more information about this AD, contact Dat Le, Aviation Safety Engineer, FAA, 1600 Stewart Avenue, Suite 410, Westbury, NY 11590; telephone 516-228-7300; email 9-avs-nyaco-cos@faa.gov.

(k) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2023-0215, dated December 11, 2023; corrected dated December 13, 2023.

(ii) [Reserved]

(3) For EASA AD 2023-0215, contact EASA, Konrad-Adenauer-Ufer 3, 50668 Cologne, Germany; telephone +49 221 8999 000; email ADs@easa.europa.eu; website easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locationsoremailfr.inspection@nara.gov.

Issued on August 7, 2024.
Peter A. White,
Deputy Director, Integrated Certificate Management Division, Aircraft Certification Service.

[FR Doc. 2024-21799 Filed 9-24-24; 8:45 am]

BILLING CODE 4910-13-P